RAILROAD RETIREMENT BOARD

Sunshine Act Meetings

TIME AND DATE: 10:00 a.m., February 19, 2020

PLACE: 8th Floor Board Conference Room, 844 North Rush Street, Chicago, Illinois, 60611

STATUS: This meeting will be open to the public.

MATTERS TO BE CONSIDERED:

1. Necessity of mandatory specialized consultative exams for disability adjudication

2. Report from the Director of Programs and the Director of Disability on possible procedural improvements to the disability process

3. Discussion of next steps regarding NRRIT following Segal Marco Advisers review

CONTACT PERSON FOR MORE INFORMATION: Stephanie Hillyard, Secretary to the Board, Phone No. 312-751-4920.

Authority: 5 U.S.C. 552b.

Dated: February 6, 2020.
Stephanie Hillyard,
Secretary to the Board.

[FR Doc. 2020-02728 Filed 2-6-20; 4:15 pm]

BILLING CODE 7905-01-P